DEPARTMENT OF TRANSPORTATION

National Highway Traffic Safety Administration

Reports, Forms and Record Keeping Requirements Agency Information Collection Activity Under OMB Review

AGENCY: National Highway Traffic Safety Administration, U.S. Department of Transportation.

ACTION: Notice; correction.

SUMMARY: This document corrects the docket number in a Federal Register notice published on Tuesday, November 25, 2014, that announced a request for public comment on proposed collection of information.

FOR FURTHER INFORMATION CONTACT: Mr. Randy Reid, U.S. Department of Transportation, NHTSA, Room W48-311, 1200 New Jersey Avenue SE., Washington, DC 20590. Mr. Reid's telephone number is (202) 366-4383 and his email address is randy.reid@dot.gov.

Correction

In the Federal Register of November 25, 2014, in FR Doc. 2014-2127-0008, on page 70275, column 1 needs to be read:

U.S. DOT Docket No. NHTSA-2014-0124.

Correction

In the Federal Register of November 25, 2014, in FR Doc. 2014-2127-0008, on page 70275, column 2 before the Title: Consumer Complaint Information, needs to read:

OMB Control Number: 2127-0008

Issued on: November 25, 2014.
Randy Reid,
Chief, Correspondence Research Division, Office of Defects Investigation.

[FR Doc. 2014-30310 Filed 12-29-14; 8:45 am]

BILLING CODE P